DEPARTMENT OF COMMERCE

International Trade Administration

[A-570-981, A-552-814, C-570-982]

Utility Scale Wind Towers From the People's Republic of China and the Socialist Republic of Vietnam: Continuation of Antidumping Duty Orders and Countervailing Duty Order

AGENCY: Enforcement and Compliance, International Trade Administration, Department of Commerce.

SUMMARY: As a result of the determinations by the Department of Commerce (Commerce) and the International Trade Commission (ITC) that revocation of the antidumping duty (AD) orders on utility scale wind towers (wind towers) from the People's Republic of China (China) and the Socialist Republic of Vietnam (Vietnam), and revocation of the countervailing duty (CVD) order on wind towers from China would likely lead to a continuation or recurrence of dumping and countervailable subsidies, and material injury to an industry in the United States, Commerce is publishing a notice of continuation of these AD orders and the CVD order.

DATES: Applicable May 17, 2019.

FOR FURTHER INFORMATION CONTACT: Ariela Garvett, AD/CVD Operations, Office IV (AD) and Kristen Johnson, AD/CVD Operations, Office III (CVD), Enforcement and Compliance, International Trade Administration, U.S. Department of Commerce, 1401 Constitution Avenue NW, Washington, DC 20230; telephone: (202) 482-3609 and (202) 482-4793, respectively.

SUPPLEMENTARY INFORMATION:

Background

On February 15, 2013, Commerce published in the Federal Register the AD orders on wind towers from China and Vietnam and the CVD order on wind towers from China.¹ On January 2, 2018, Commerce published the initiation of the first sunset reviews of the Orders, pursuant to section 751(c) of the Tariff Act of 1930, as amended (the Act).² Also, on January 2, 2018, the ITC instituted its review of the Orders.³ Commerce received timely notices of intent to participate in these reviews from the Wind Tower Trade Coalition (WTTC), a domestic interested party, within the deadline specified in 19 CFR 351.218(d)(1)(i).⁴ On February 5, 2018, Commerce received complete and adequate substantive responses from the WTTC within the 30-day deadline specified in 19 CFR 351.218(d)(3)(i).⁵ Commerce received no substantive response from respondent interested parties. Pursuant to section 751(c)(3)(B) of the Act, Commerce conducted expedited (120-day) sunset reviews of the Orders.⁶ On April 19, 2018, the ITC published its notice to conduct a full five-year review of the Orders.⁷

¹ See Utility Scale Wind Towers from the People's Republic of China: Antidumping Duty Order, 78 FR 11146 (February 15, 2013); Utility Scale Wind Towers from the Socialist Republic of Vietnam: Amended Final Determination of Sales at Less Than Fair Value and Antidumping Duty Order, 78 FR 11150 (February 15, 2013); and Utility Scale Wind Towers from the People's Republic of China: Countervailing Duty Order, 78 FR 11152 (February 15, 2013) (collectively, Orders).

² See Initiation of Five-Year (Sunset) Reviews, 83 FR 100 (January 2, 2018).

³ See Utility Scale Wind Towers from China and Vietnam; Institution of Five-Year Reviews, 83 FR 142 (January 2, 2018).

⁴ See WTTC's Letter, “Utility Scale Wind Towers from the People's Republic of China: Notice of Intent to Participate in Sunset Review” (January 17, 2018) (AD); WTTC's Letter, “Utility Scale Wind Towers from the Socialist Republic of Vietnam: Notice of Intent to Participate in Sunset Review,” (January 17, 2018) (AD); and WTTC's Letter, “Utility Scale Wind Towers from the People's Republic of China: Notice of Intent to Participate in Sunset Review” (January 17, 2018) (CVD).

⁵ See WTTC's Letter, “Utility Scale Wind Towers from the People's Republic of China: Substantive Response to Notice of Initiation of Sunset Review” (February 5, 2018) (AD); WTTC's Letter, “Utility Scale Wind Towers from the Socialist Republic of Vietnam: Substantive Response to Notice of Initiation of Sunset Review” (February 5, 2018) (AD); and WTTC's Letter, “Utility Scale Wind Towers from the People's Republic of China: Substantive Response to Notice of Initiation of Sunset Review” (February 5, 2018) (CVD).

⁶ See Utility Scale Wind Towers from the People's Republic of China and the Socialist Republic of Vietnam: Final Results of Expedited First Sunset Reviews of Antidumping Duty Orders, 83 FR 19220 (May 2, 2018); and Utility Scale Wind Towers from the People's Republic of China: Final Results of the Expedited First Sunset Review of the Countervailing Duty Order, 83 FR 22960 (May 17, 2018).

⁷ See Utility Scale Wind Towers from China and Vietnam; Notice of Commission Determination to Conduct Full Five-Year Reviews, 83 FR 17446 (April 19, 2018).

As a result of its reviews, Commerce determined, pursuant to sections 751(c)(1) and 752(b) and (c) of the Act, that revocation of the Orders on wind towers from China and Vietnam would likely lead to continuation or recurrence of dumping and countervailable subsidies. Commerce, therefore, notified the ITC of the magnitude of the margins of dumping and net countervailable subsidy rates likely to prevail should these Orders be revoked, in accordance with sections 752(b)(3) and (c)(3) of the Act.⁸

⁸ Id.

On May 8, 2019, the ITC published its determination that revocation of the Orders would likely lead to a continuation or recurrence of material injury to an industry in the United States within a reasonably foreseeable time, pursuant to sections 751(c) and 752(a) of the Act.⁹

⁹ See Utility Scale Wind Towers from China and Vietnam; Determinations, 84 FR 20164 (May 8, 2019); see also Utility Scale Wind Towers from China and Vietnam: Investigation Nos. 701-TA-486 and 731-TA-1195-1196 (Review), USITC Publication 4888 (April 2019).

Scope of the Orders

The merchandise covered by the Orders is certain wind towers, whether or not tapered, and sections thereof. Certain wind towers are designed to support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof.

Merchandise covered by the Orders is currently classified in the Harmonized Tariff System of the United States (HTSUS) under subheadings 7308.20.0020 ¹⁰ or 8502.31.0000.¹¹ Prior to 2011, merchandise covered by the Orders was classified in the HTSUS under subheading 7308.20.0000 and may continue to be to some degree. While the HTSUS subheadings are provided for convenience and customs purposes, the written description of the subject merchandise is dispositive.

¹⁰ Wind towers are classified under HTSUS 7308.20.0020 when imported as a tower or tower section(s) alone.

¹¹ Wind towers may also be classified under HTSUS 8502.31.0000 when imported as part of a wind turbine (i.e., accompanying nacelles and/or rotor blades).

Continuation of the Orders

As a result of the determinations by Commerce and the ITC that revocation of the Orders would likely lead to a continuation or recurrence of dumping and countervailable subsidies and material injury to an industry in the United States, pursuant to section 751(d)(2) of the Act and 19 CFR 351.218(a), Commerce hereby orders the continuation of these Orders on wind towers from China and Vietnam. U.S. Customs and Border Protection will continue to collect AD and CVD cash deposits at the rates in effect at the time of entry for all imports of subject merchandise.

The effective date of the continuation of these Orders will be the date of publication in the Federal Register of this notice of continuation. Pursuant to section 751(c)(2) of the Act and 19 CFR 351.218(c)(2), Commerce intends to initiate the next five-year (sunset) reviews of these Orders not later than 30 days prior to the fifth anniversary of the effective date of continuation.

These five-year sunset reviews and this notice are in accordance with section 751(c) of the Act and published pursuant to section 777(i)(1) of the Act and 19 CFR 351.218(f)(4).

Dated: May 9, 2019.
Jeffrey I. Kessler,
Assistant Secretary for Enforcement and Compliance.

[FR Doc. 2019-10270 Filed 5-16-19; 8:45 am]

BILLING CODE 3510-DS-P